DEPARTMENT OF LABOR

Occupational Safety and Health Administration

Maritime Advisory Committee for Occupational Safety and Health; Notice of Meeting

AGENCY: Occupational Safety and Health Administration (OSHA), Labor.

ACTION: Maritime Advisory Committee for Occupational Safety and Health (MACOSH); Notice of meeting.

SUMMARY: The Maritime Advisory Committee for Occupational Safety and Health (MACOSH) was established to advise the Assistant Secretary of Labor for OSHA on issues relating to occupational safety and health in the maritime industries. The purpose of this Federal Register notice is to announce the December 2004 meeting of the committee.

DATES: The committee will meet on December 8 through December 9, 2004. On December 7, the MACOSH work groups will meet from 9 a.m. until 4:30 p.m.; on December 8, the full committee will meet from 8 a.m. until approximately 4:30 p.m.; on December 9, the full committee will meet from 8 a.m. until approximately 5 p.m.

ADDRESSES: The committee will meet at the Norfolk Waterside Marriott, 232 East Main Street, Norfolk, Virginia 23510; phone; (757) 628-6473; fax: (202) 628-6452.

Mail comments, views, or statements in response to this notice to Jim Maddux, Director, Office of Maritime, OSHA, U.S. Department of Labor, Room N-3609, 200 Constitution Avenue NW., Washington, DC 20210; phone (202) 693-2086; FAX: (202) 693-1663.

FOR FURTHER INFORMATION CONTACT: For general information about MACOSH and this meeting: Jim Maddux, Director, Office of Maritime, U.S. Department of Labor, Room N-3609, 200 Constitution Avenue, NW., Washington, DC 20210; phone: (202) 693-2086. For information about the submission of comments, and requests to speak: Vanessa L. Welch, Office of Maritime, OSHA, U.S. Department of Labor, Room N-3609, 200 Constitution Avenue, NW., Washington, DC 20210; Phone: (202) 693-2086. Individuals with disabilities wishing to attend the meeting should contact Vanessa L. Welch at (202) 693-2086 at later than November 17, 2004 to obtain appropriate accommodations.

SUPPLEMENTARY INFORMATION: All MACOSH meetings, including work group meetings, are open to the public. All interested persons are invited to attend MACOSH at the times and places listed above. The full meeting on December 8 and 9 will include presentations and discussions of OSHA's standard and guidance activities, maritime enforcement, alliances and partnerships, outreach activities, and MACOSH work group reports. Specific topics will include OSHA's proposed standard for Chromium VI, a NIOSH maritime noise study, automatic external defibrillators (AED), and an update on development of the construction crane standard.

MACOSH has several active work groups. The container safety, longshoring, and shipyard work groups will meet on the morning of December 7. The work groups dealing with health issues, traffic safety, and safety culture will meet on the afternoon of December 7. The work groups will report to the full committee on December 8 and 9.

Public Participation: Written data, views or comments for consideration by MACOSH on the various agenda items listed above may be submitted to Vanessa L. Welch at the address listed above. Submissions received by November 17, 2004, will be provided to committee members and will be included in the record of the meeting. Requests to make oral presentations to the Committee may be granted as time permits. Anyone wishing to make an oral presentation to the Committee on any of the agenda items listed above should notify Vanessa L. Welch by November 17, 2004. The request should state the amount of time desired, the capacity in which the person will appear, and a brief outline of the content of the presentation.

Authority: John L. Henshaw, Assistant Secretary of Labor for Occupational Safety and Health, directed the preparation of this notice under the authority granted by 6(b)(1) and 7(b) of the Occupational Safety and Health Act of 1970 (29 U.S.C. 655, 656, the Federal Advisory Committee Act (5 U.S.C. App. 2), and 29 CFR part 1912.

Signed at Washington, DC., this 2nd day of November, 2004.
John L. Henshaw,
Assistant Secretary of Labor.

[FR Doc. 04-24838 Filed 11-5-04; 8:45 am]

BILLING CODE 4510-26-M